DEPARTMENT OF ENERGY

Federal Energy Regulatory Commission

[Docket No. EL14-7-000]

New England Power Generators Association, Inc. v. ISO New England Inc.; Notice of Complaint

Take notice that on October 31, 2013, pursuant to sections 206 and 306 of the Federal Power Act, 16 U.S.C. 824e, 825e, and Rule 206 of the Rules of Practice and Procedure of the Federal Energy Regulatory Commission (Commission), 18 CFR 385.206 (2013), the New England Power Generators Association, Inc. (NEPGA or Complainant) filed a complaint against ISO New England, Inc. (ISO-NE or Respondent). NEPGA alleges that the provisions of the ISO-NE Tariff that set capacity prices during circumstances termed Insufficient Competition and Inadequate Supply and the tariff rules known as the Capacity Carry Forward Rule, each of which is a component of the Forward Capacity Market administered by ISO-NE, are creating unreasonable and unduly discriminatory price disparities between new and existing capacity resources and do not approximate competitive market outcomes. As more fully explained in its complaint, NEPGA requests that the Commission find that its proposed revisions to the ISO-NE tariff are just and reasonable.

NEPGA certifies that copies of the complaint were served on the contacts for ISO-NE as listed on the Commission's list of Corporate Officials in accordance with Rule 206(c), 18 CFR 385.206(c).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 20, 2013.

Dated: November 1, 2013.
Kimberly D. Bose,
Secretary.

[FR Doc. 2013-26917 Filed 11-8-13; 8:45 am]

BILLING CODE 6717-01-P